DEPARTMENT OF DEFENSE

Office of the Secretary

[Docket ID: DoD-2014-OS-0049]

Privacy Act of 1974; System of Records; Correction

AGENCY: Defense Information Systems Agency, DoD.

ACTION: Notice to delete a System of Records Notice; correction.

SUMMARY: On April 9, 2014 (79 FR 19587), DoD published a notice deleting a Privacy Act System of Records notice, K890.10, Joint Enterprise Directory Services (JEDS). The Reason was written inaccurately, and this notice corrects the error.

FOR FURTHER INFORMATION CONTACT: Jeanette Weathers-Jenkins, 6916 Cooper Avenue, Fort Meade, MD 20755-7901, or (301) 225-8158.

SUPPLEMENTARY INFORMATION: On April 9, 2014 (79 FR 19587), DoD published a notice deleting a Privacy Act System of Records notice, K890.10, Joint Enterprise Directory Services (JEDS). Subsequent to the publication of that notice, DoD discovered that the Reason paragraph for the deletion was inaccurately written.

Correction

On page 19587, in the second column, in the “Deletion” paragraph, make the following correction:

Deletion:

K890.10, Joint Enterprise Directory Services (JEDS) (January 31, 2008, 73 FR 5825).

Reason: Based on a recent review of DISA systems of records notices, K890.10, Joint Enterprise Directory Services (JEDS) (January 31, 2008, 73 FR 5825), was decommissioned in September 2013; all records were destroyed in accordance with the approval NARA disposition schedule; therefore, K890.10, Joint Enterprise Directory Services (JEDS) can be deleted.

Dated: April 16, 2014.
Aaron Siegel,
Alternate OSD Federal Register Liaison Officer, Department of Defense.

[FR Doc. 2014-08989 Filed 4-18-14; 8:45 am]

BILLING CODE 5001-06-P